DEPARTMENT OF THE INTERIOR

National Park Service

[NPS-AKRO-DENA-19163; PPMRSNR1Y.Y00000]

Notice of Availability for Public Review of Mining Plan of Operations for Claims Within Denali National Park and Preserve, Alaska

AGENCY: National Park Service, Interior.

ACTION: Notice of Availability.

SUMMARY: In accordance with 36 CFR 9.17, the National Park Service (NPS) is hereby giving notice that Kris DeVault has filed a proposed plan to conduct mining operations on the Liberty #9 and Liberty #13 through #18 unpatented placer claims near Kantishna, Alaska. The claims are located within Denali National Park and Preserve.

ADDRESSES: This plan of operations is available for inspection during normal business hours at the following locations:

Office of the Superintendent, Denali National Park and Preserve—Headquarters, Mile post 3.4 Denali Park Road, P.O. Box 9, Denali Park, AK 99755.

National Park Service Alaska Regional Office—Natural Resources Division, 240 West 5th Avenue, Anchorage, AK 99501.

FOR FURTHER INFORMATION CONTACT: Donald Striker, Superintendent, at (907) 683-9625, donald_striker@nps.gov, Steve Carwile, Compliance Officer, at (907) 683-9550, email at steve_carwile@nps.gov.

SUPPLEMENTARY INFORMATION: The regulations at 36 CFR part 9, subpart A, implement 54 U.S.C. 100731-737, which was originally enacted as the Mining in the Parks Act. These regulations are applicable to all mineral activities in park units related to unpatented and patented mining claims under the Mining Law of 1872 (30 U.S.C. 21 et seq.). Under the regulations, all mining claim operations in parks require NPS approval of a plan of operations. The plan of operations serves as the blueprint for the operation.

Kris DeVault, the operator of the Liberty #9 and Liberty #13 through #18 unpatented placer claims near Kantishna, Alaska, has submitted a proposed plan of operations. The Regional Director is currently evaluating the proposed plan under the standards of 36 CFR 9.10. If the plan meets the standards, the NPS may approve the plan as submitted or approve the plan with terms and conditions. Under 36 CFR 9.17(a), the NPS is required to publish this notice in the Federal Register advising the public of the availability of the proposed plan for review.

Dated: February 22, 2016.
Herbert C. Frost,
Regional Director, Alaska.

[FR Doc. 2016-04193 Filed 2-25-16; 8:45 am]

BILLING CODE 4312-EF-P